DEPARTMENT OF LABOR

Office of the Secretary

Submission for OMB Review: Comment Request

May 24, 2010.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin A. King on 202-693-4129 (this is not a toll-free number)/e-mail: DOL_PRA_PUBLIC@dol.gov.

Interested parties are encouraged to send comments to the Office of Information and Regulatory Affairs, Attn: OMB Desk Officer for the Department of Labor—Office of Workers' Compensation Programs (OWCP), Office of Management and Budget, Room 10235, Washington, DC 20503, Telephone: 202-395-7316/Fax: 202-395-5806 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Office of Workers' Compensation Programs (OWCP).

Type of Review: Revision and Extension of a currently approved collection.

Title of Collection: Death Gratuity.

OMB Control Number: 1240-0017.

Agency Form Numbers: CA-40; CA-41; and CA-42.

Affected Public: Individuals or Households and Federal Government.

Total Estimated Number of Respondents: 2,600.

Total Estimated Annual Burden Hours: 659.

Total Estimated Annual Costs Burden (Operation and Maintenance): $12.

Description: The National Defense Authorization Act for Fiscal Year 2008, Public Law 110-181, was enacted on January 28, 2008. Section 1105 of Public Law 110-181 amended the Federal Employees' Compensation Act (FECA) creating a new section 8102a effective upon enactment. This section establishes a new FECA death gratuity benefit of up to $100,000 for eligible beneficiaries of federal employees and Non-Appropriated Fund Instrumentality employees who die from injuries incurred in connection with service with an Armed Force in a contingency operation. Section 8102a also permits agencies to authorize retroactive payment of the death gratuity for employees who died on or after October 7, 2001, in service with an Armed Force in the theater of operations of Operation Enduring Freedom and Operation Iraqi Freedom. Form CA-40 requests the information necessary from the employee to accomplish this variance. Form CA-41 provides the means for those named beneficiaries and possible recipients to file claims for those benefits and requests information from such claimants so that OWCP may determine their eligibility for payment. Further, the statute and regulations require agencies to notify OWCP immediately upon the death of a covered employee. CA-42 provides the means to accomplish this notification and requests information necessary to administer any claim for benefits resulting from such a death. For additional information, see related notice published in the Federal Register on January 28, 2010 (75 FR page 4586).

Agency: Office of Workers' Compensation Programs (OWCP).

Type of Review: Revision and Extension of a currently approved collection.

Title of Collection: Claim for Reimbursement-Assisted Reemployment.

OMB Control Number: 1240-0018.

Agency Form Number: CA-2231.

Affected Public: Business or other for-profits.

Total Estimated Number of Respondents: 25.

Total Estimated Annual Burden Hours: 50.

Total Estimated Annual Costs Burden (Operation and Maintenance): $47.

Description: To aid in the employment of Federal employees with disabilities related to an on-the-job injury, employers submit the Form CA-2231 to claim reimbursement for wages paid under the assisted reemployment project. This information allows for a prompt decision on payment. For additional information, see related notice published in the Federal Register on February 18, 2010 (75 FR page 7291).

Darrin A. King,
Departmental Clearance Officer.

[FR Doc. 2010-12832 Filed 5-27-10; 8:45 am]

BILLING CODE 4510-27-P